FEDERAL MARITIME COMMISSION

Ocean Transportation Intermediary License Applicant

Notice is hereby given that the following applicants have filed with the Federal Maritime Commission an application for licenses as Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel Operating Common Carrier Ocean Transportation Intermediary Applicant

Jenkar International Freight Ltd., 150-30 132nd Avenue, Jamaica, NY 11434, Officer: (Qualifying Individual), Donald James Wolfe, Director.

Non-Vessel Operating Common Carrier and Ocean Freight Forwarder Transportation Intermediary Applicant

JES Shipping, Inc., 2913 El Camino Real, Suite 241, Tustin, CA 92782 Officer: (Qualifying Individual), James Chik, President.

Dated: July 14, 2000.
Bryant L. VanBrakle,
Secretary.

[FR Doc. 00-18267 Filed 7-18-00; 8:45 am]

BILLING CODE 6730-01-P